DEPARTMENT OF HEALTH AND HUMAN SERVICES

Centers for Disease Control and Prevention

[60Day-04-20]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project: National Hospital Ambulatory Medical Care Survey (NHAMCS) 2005-2006 (OMB No. 0920-0278)—Extension—National Center for Health Statistics (NCHS), Centers for Disease Control and Prevention (CDC).

The National Hospital Ambulatory Medical Care Survey (NHAMCS) is managed by CDC, NCHS, Division of Health Care Statistics. This survey has been conducted annually since 1992. The purpose of NHAMCS is to meet the needs and demands for statistical information about the provision of ambulatory medical care services in the United States. Ambulatory services are rendered in a wide variety of settings, including physicians' offices and hospital outpatient and emergency departments. The targeted population for NHAMCS will consist of in-person visits made to outpatient departments and emergency departments that are non-Federal, short-stay hospitals (hospitals with an average length of stay of less than 30 days) or those whose specialty is general (medical or surgical) or children's general. NHAMCS was initiated to complement the National Ambulatory Medical Care Survey (NAMCS, OMB No. 0920-0234) which provides similar data concerning patient visits to physicians' offices.

NHAMCS provides a range of baseline data on the characteristics of the users and providers of ambulatory medical care. Data collected include patients' demographic characteristics and reason(s) for visit, and the physicians' diagnosis, diagnostic services, medications, and disposition. In addition to the annual statistics normally collected, a key focus of the 2005/06 survey will be on the prevention and treatment of selected chronic conditions. These data, together with trend data, may be used to monitor the effects of change in the health care system, for the planning of health services, improving medical education, and assessing the health status of the population.

Users of NHAMCS data include, but are not limited to, congressional offices, Federal agencies, state and local governments, schools of public health, researchers, administrators, and health planners. Data collection will continue through 2005 to 2006. The number of respondents for the NHAMCS is based on an annual sample of approximately 500 hospitals with an 88 percent participation rate. There are no costs to respondents.

Respondents | Number of respondents | Number of responses/ respondent | Avg. burden/response (in hrs) | Total burden hours
Induction forms:
Hospital (Ineligible) | 50 | 1 | 15/60 | 13
Hospital (Eligible) | 440 | 1 | 1 | 440
Emergency Departments | 400 | 1 | 1 | 400
Outpatient Departments | 240 | 4 | 1 | 960
Patient record forms:
Emergency Departments | 400 | 100 | 5/60 | 3,333
Outpatient Departments | 240 | 150 | 5/60 | 3,000
Total |  |  |  | 8,146

Dated: December 29, 2003.
Ron Ergle,
Acting Director, Management Analysis and Services Office, Centers for Disease Control and Prevention.

[FR Doc. 04-41 Filed 1-2-04; 8:45 am]

BILLING CODE 4163-18-P